DEPARTMENT OF DEFENSE

Office of the Secretary

[Docket ID: DoD-2025-OS-0018]

Notice of Request for Comments on Executive Order 14265, Modernizing Defense Acquisitions and Spurring Innovation in the Defense Industrial Base

AGENCY: Office of Small Business Programs, Office of the Assistant Secretary of Defense (Industrial Base Policy), Department of Defense (DoD).

ACTION: Notice of request for public comments.

SUMMARY: President Donald J. Trump issued an executive order (E.O.) to accelerate defense procurement and revitalize the defense industrial base by reforming defense acquisition processes and modernizing the composition of the defense acquisition workforce. Small businesses play a crucial role in safeguarding national security by delivering innovative technologies, unique capabilities, and critical support to our military forces. In recognition of these significant contributions, the Department seeks public comment on this E.O. This input will be used to support implementation of this presidential action.

DATES: The due date for submitting comments is August 8, 2025.

ADDRESSES: You may submit comments, identified by docket number and title, by the following methods:

Federal eRulemaking Portal: https://www.regulations.gov. Follow the instructions for submitting comments.

Mail: Department of Defense, Office of the Assistant to the Secretary of Defense for Privacy, Civil Liberties, and Transparency, Regulatory Directorate, 4800 Mark Center Drive, Mailbox #24, Suite 05F16, Alexandria, VA 22350-1700.

Instructions: All submissions received must include the agency name, docket number, and title for this Federal Register document. The general policy for comments and other submissions from members of the public is to make these submissions available as they are received, without change, including any personal identifiers or contact information for public viewing on the internet at http://www.regulations.gov.

FOR FURTHER INFORMATION CONTACT: Dr. Jacqueline Charles, Associate Director, of the DoD, Office of Small Business Programs, at (703) 692-0935 or osd.pentagon.ousd-a-s.mbx.osbp-policy-legislative-affairs@mail.mil.

SUPPLEMENTARY INFORMATION:

Background

E.O. 14265, Modernizing Defense Acquisitions and Spurring Innovation in the Defense Industrial Base, focuses on reforming the DoD acquisition processes to accelerate the procurement of advanced technologies and revitalize the defense industrial base by prioritizing commercial solutions, streamlining decision-making, and encouraging innovation within the defense sector. In support of this E.O., the Department maintains its commitment to reversing the decline of the numbers of small businesses in the defense industrial base by reducing barriers to entry and increasing the competition and innovation needed to provide the best systems, technologies, services, and products to support the Warfighter as outlined in the Department's strategic small business plan. Small businesses spur innovation as they are essential to the strength and resilience of the defense industrial base. They play a crucial role in safeguarding national security by delivering innovative technologies, unique capabilities, and critical support to our military forces.

The Department seeks comments from the public on E.O. 14265 to assist the Department to implement this E.O. and gain insight from industry on acquisition reform, revisions to DoD regulations that would improve relationships between the Department and small businesses, restructuring of the acquisition workforce to support incentivizing and rewarding risk-taking in innovation towards commercial solutions and streamlined acquisitions under the Adaptative Acquisition Framework, and the review of the Joint Capabilities Integration and Development System to streamline the acceleration of acquisitions.

The Department is specifically interested in comments and information from small businesses currently in or interested in becoming part of the defense industrial base.

Written Comments

The Department is interested in comments and information directed to the policy objectives listed in E.O. 14265 as they affect reforming and modernizing the DoD acquisition process. The Department is seeking comments from small businesses as well as from those with relevant expertise on the following topics:

i. Acquisition Process Reform. Modernization of the current DoD acquisition process to accelerate procurement of advanced technologies, revitalize the defense industrial base, prioritize commercial solutions, streamline decision-making, and encourage innovation within the defense sector.

ii. Regulations Review. Revisions to DoD regulations that would help relationships between the Department and small businesses.

iii. Acquisition Workforce Reform. Restructuring of the acquisition workforce to support incentivizing and rewarding risk-taking in innovation towards commercial solutions and streamlined acquisitions under the Adaptative Acquisition Framework.

iv. Requirements. Review of the Joint Capabilities Integration and Development System to streamline the acceleration of acquisitions.

The Department encourages respondents to structure their comments using the same text above as identifiers for the areas of inquiry to which they are responding. This will assist the Department in more easily reviewing and summarizing the comments received in response to these specific areas. For example, a commenter submitting comments responsive to.

i. Acquisition Process Reform. would use that same text as a heading in the public comment followed by the commenter's specific comments in this area. The Department encourages the use of an Executive Summary at the beginning of all comments and information to affect a more efficient Departmental review of the submitted documents.

Requirements for Written Comments

The website at https://www.regulations.gov allows users to provide comments by filling in a “Type Comment” field, or by attaching a document using an “Upload File” field. The Department prefers those comments be provided in an attached document, preferably in Microsoft Word (.doc) or Adobe Acrobat (.pdf) format. If the submission is provided in a format other than Microsoft Word or Adobe Acrobat, please indicate the name of the application in the “Type Comment” field. Please do not attach separate cover letters to electronic submissions; rather, include any information that might appear in a cover letter within the comments. Similarly, to the extent possible, please include any exhibits, annexes, or other attachments in the same file, so the submission consists of one file instead of multiple files.

Comments (both public comments and non-confidential versions of comments containing business confidential information) will be placed in the docket and open to public inspection. Comments may be viewed on https://www.regulations.gov by entering docket number DoD-2025-OS-0018 in the search field on the home page. All filers should name their files using the name of the person or entity submitting the comments. Anonymous comments are also accepted. Communications from agencies of the United States Government will not be made available for public inspection.

Anyone submitting business confidential information should clearly identify the business confidential portion at the time of submission, file a statement justifying nondisclosure and referring to the specific legal authority claimed and provide a non-confidential version of the submission. The non-confidential version of the submission will be placed in the public file on https://www.regulations.gov. For comments submitted electronically containing business confidential information, the file name of the business confidential version should begin with the characters “BC.” Any page containing business confidential information must be clearly marked “BUSINESS CONFIDENTIAL” on the top of that page. The non-confidential version must be clearly marked “PUBLIC.” The file name of the nonconfidential version should begin with the character “P.” The “BC” and “P” should be followed by the name of the person or entity submitting the comments or rebuttal comments. If a public hearing is held in support of this assessment, a separate Federal Register notice will be published providing the date and information about the hearing. The Office of the Assistant Secretary of Defense (Industrial Base Policy) does not maintain a separate public inspection facility. Requesters should first view the Department's web page, which can be found at https://open.defense.gov/ (see “Electronic FOIA” heading). The records related to this assessment are made accessible in accordance with part 4 of title 15 of the Code of Federal Regulations (CFR), specifically 15 CFR 4.1 through 4.11.

Dated: July 7, 2025.
Aaron T. Siegel,
Alternate OSD Federal Register Liaison Officer, Department of Defense.

[FR Doc. 2025-12756 Filed 7-8-25; 8:45 am]

BILLING CODE 6001-FR-P